DEPARTMENT OF TRANSPORTATION

Federal Aviation Administration

14 CFR Part 39

[Docket No. FAA-2014-0137; Directorate Identifier 2013-NM-135-AD]

RIN 2120-AA64

Airworthiness Directives; Airbus Airplanes

AGENCY: Federal Aviation Administration (FAA), DOT.

ACTION: Notice of proposed rulemaking (NPRM).

SUMMARY: We propose to adopt a new airworthiness directive (AD) for all Airbus Model A300 series airplanes; Model A300 B4-600, B4-600R, and F4-600R series airplanes; Model A300 C4-605R Variant F airplanes (collectively called Model A300-600 series airplanes); and Model A310 series airplanes. This proposed AD was prompted by reports of rupture of the uplock springs of the nose landing gear (NLG) and main landing gear (MLG) doors and legs. This proposed AD would require repetitive inspections of the uplock springs of the NLG and MLG doors and legs for broken and damaged springs, and corrective actions if necessary. We are proposing this AD to detect and correct improper free fall extension of the MLG or NLG, which could lead to possible loss of control of the airplane on the ground, and consequent damage to the airplane and injury to occupants.

DATES: We must receive comments on this proposed AD by April 21, 2014.

ADDRESSES: You may send comments by any of the following methods:

• Federal eRulemaking Portal: Go to http://www.regulations.gov. Follow the instructions for submitting comments.

•Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC, between 9 a.m. and 5 p.m., Monday through Friday, except Federal holidays.

For service information identified in this proposed AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this referenced service information at the FAA, Transport Airplane Directorate, 1601 Lind Avenue SW., Renton, WA. For information on the availability of this material at the FAA, call 425-227-1221.

Examining the AD Docket

You may examine the AD docket on the Internet at http://www.regulations.gov by searching for and locating Docket No. FAA-2014-0137; or in person at the Docket Management Facility between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Rodina, Aerospace Engineer, International Branch, ANM-116, Transport Airplane Directorate, FAA, 1601 Lind Avenue SW., Renton, WA 98057-3356; telephone (425) 227-2125; fax (425) 227-1149.

SUPPLEMENTARY INFORMATION:

Comments Invited

We invite you to send any written relevant data, views, or arguments about this proposed AD. Send your comments to an address listed under the ADDRESSES section. Include “Docket No. FAA-2014-0137; Directorate Identifier 2013-NM-135-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

The European Aviation Safety Agency (EASA), which is the Technical Agent for the Member States of the European Community, has issued EASA Airworthiness Directive 2013-0150, dated July 16, 2013 (referred to after this as the Mandatory Continuing Airworthiness Information, or “the MCAI”), to correct an unsafe condition for the specified products. The MCAI states:

Some cases of Nose Landing Gear (NLG) and Main Landing Gear (MLG) Door and Leg Uplock spring ruptures on A300, A310 or A300-600 aeroplanes have been reported in service.

Springs within the uplock are used to either lock the gear or the door in the up position, or to participate in emergency mechanical unlocking.

The springs are positioned in pairs, and in case of rupture of one spring the other one remains to fulfill the function, whereas the rupture of both springs will disable the locking function or the emergency unlocking function.

This condition, if not detected and corrected, could prevent proper free fall extension of the MLG or NLG, possibly leading to loss of control of the aeroplane on the ground, consequently resulting in damage to the aeroplane and injury to occupants.

For the reason described above, this [EASA] AD requires [repetitive] detailed visual inspection[s] of the NLG and MLG Door and Leg Uplock springs [for broken and damaged springs] and, depending of findings, their replacement.

You may examine the MCAI in the AD docket on the Internet at http://www.regulations.gov by searching for and locating it in Docket No. FAA-2014-0137.

Relevant Service Information

Airbus has issued Mandatory Service Bulletins A300-32-0465, A300-32-6111, and A310-32-2147, all Revision 01, all dated April 25, 2013. The actions described in this service information are intended to correct the unsafe condition identified in the MCAI.

FAA's Determination and Requirements of this Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Costs of Compliance

We estimate that this proposed AD affects 156 airplanes of U.S. registry.

We estimate the following costs to comply with this proposed AD:

Estimated Costs
Action | Labor cost | Parts cost | Cost per product | Cost on U.S. operators
Repetitive inspections | 1 work-hour × $85 per hour = $85 per inspection | $0 | $85 per inspection | $13,260 per inspection.

In addition, we estimate that any necessary replacement would take about 9 work-hours for a cost of $765 per product. The cost of parts is minimal. We have no way of determining the number of aircraft that might need this action.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Airbus: Docket No. FAA-2014-0137; Directorate Identifier 2013-NM-135-AD.

(a) Comments Due Date

We must receive comments by April 21, 2014.

(b) Affected ADs

None.

(c) Applicability

This AD applies to the Airbus airplanes specified in paragraphs (c)(1), (c)(2), (c)(3), (c)(4), (c)(5), and (c)(6) of this AD; certificated in any category; all serial numbers.

(1) Model A300 B2-1A, B2-1C, B2K-3C, B2-203, B4-2C, B4-103, and B4-203 airplanes.

(2) Model A300 B4-601, B4-603, B4-620, and B4-622 airplanes.

(3) Model A300 B4-605R and B4-622R airplanes.

(4) Model A300 F4-605R and F4-622R airplanes.

(5) Model A300 C4-605R Variant F airplanes.

(6) Model A310-203, -204, -221, -222, -304, -322, -324, and -325 airplanes.

(d) Subject

Air Transport Association (ATA) of America Code 32, Landing gear.

(e) Reason

This AD was prompted by reports of rupture of the uplock springs of the nose landing gear (NLG) and main landing gear (MLG) doors and legs. We are issuing this AD to detect and correct improper free fall extension of the MLG or NLG, which could lead to possible loss of control of the airplane on the ground, and consequent damage to the airplane and injury to occupants.

(f) Compliance

Comply with this AD within the compliance times specified, unless already done.

(g) Repetitive Inspections

Within 18 months after the effective date of this AD: Perform a detailed inspection of the uplock springs of the MLG and NLG legs and doors for broken and damaged springs, in accordance with the Accomplishment Instructions of the applicable service information identified in paragraph (g)(1), (g)(2), or (g)(3) of this AD. Repeat the inspection thereafter at intervals not to exceed 18 months.

(1) Airbus Mandatory Service Bulletin A300-32-0465, Revision 01, dated April 25, 2013 (for Model A300 series airplanes).

(2) Airbus Mandatory Service Bulletin A300-32-6111, Revision 01, dated April 25, 2013 (for Model A300-600 series airplanes).

(3) Airbus Mandatory Service Bulletin A310-32-2147, Revision 01, dated April 25, 2013 (for Model A310 series airplanes).

(h) Corrective Actions

The corrective actions required by paragraphs (h)(1), (h)(2), and (h)(3) of this AD do not constitute terminating actions for the repetitive inspections required by paragraph (g) of this AD.

(1) If, during any inspection required by paragraph (g) of this AD, one spring on the MLG or NLG door uplock is found broken or damaged, within 2 months after the inspection, replace the affected MLG or NLG door uplock, as applicable, with a serviceable part, in accordance with the Accomplishment Instructions of the applicable service bulletin identified in paragraph (g)(1), (g)(2), or (g)(3) of this AD.

(2) If, during any inspection required by paragraph (g) of this AD, one spring on the MLG or NLG leg uplock is found broken or damaged, repeat the inspection required by paragraph (g) of this AD thereafter at intervals not to exceed 50 flight cycles. Replacement of any affected leg uplock, as required by paragraph (h)(2)(i) or (h)(2)(ii) of this AD, as applicable, constitutes terminating action for the repetitive inspections required by paragraph (h)(2) of this AD.

(i) If, during any inspection required by paragraph (h)(2) of this AD, the second free fall spring on the MLG or NLG leg uplock is found broken or damaged, before further flight, replace the affected MLG or NLG leg uplock, as applicable, with a serviceable part, in accordance with the Accomplishment Instructions of the applicable service bulletin identified in paragraph (g)(1), (g)(2), or (g)(3) of this AD.

(ii) Within 1,000 flight cycles after doing the inspection required by paragraph (g) of this AD during which the spring has been found broken, replace the affected MLG or NLG leg uplock, as applicable, with a serviceable part, in accordance with the Accomplishment Instructions of the applicable service bulletin identified in paragraph (g)(1), (g)(2), or (g)(3) of this AD.

(3) If, during any inspection required by paragraph (g) of this AD, two free fall springs on the same MLG or NLG leg uplock are found broken or damaged, before further flight, replace the affected MLG or NLG leg uplock, as applicable, with a serviceable part, in accordance with the Accomplishment Instructions of the applicable service bulletin identified in paragraph (g)(1), (g)(2), or (g)(3) of this AD.

(i) Credit for Previous Actions

This paragraph provides credit for the applicable actions required by paragraphs (g) and (h) of this AD, if those actions were performed before the effective date of this AD using the applicable service information identified in paragraph (i)(1), (i)(2), or (i)(3) of this AD.

(1) Airbus Mandatory Service Bulletin A300-32-0465, dated July 20, 2012.

(2) Airbus Mandatory Service Bulletin A300-32-6111, dated July 20, 2012.

(3) Airbus Mandatory Service Bulletin A310-32-2147, dated July 20, 2012.

(j) Other FAA AD Provisions

The following provisions also apply to this AD:

(1) Alternative Methods of Compliance (AMOCs): The Manager, International Branch, ANM-116, Transport Airplane Directorate, FAA, has the authority to approve AMOCs for this AD, if requested using the procedures found in 14 CFR 39.19. In accordance with 14 CFR 39.19, send your request to your principal inspector or local Flight Standards District Office, as appropriate. If sending information directly to the International Branch, send it to ATTN: Dan Rodina, Aerospace Engineer, International Branch, ANM-116, Transport Airplane Directorate, FAA, 1601 Lind Avenue SW., Renton, WA 98057-3356; telephone (425) 227-2125; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer, use these actions if they are FAA-approved. Corrective actions are considered FAA-approved if they were approved by the State of Design Authority (or its delegated agent or the Design Approval Holder with a State of Design Authority's design organization approval, as applicable). You are required to ensure the product is airworthy before it is returned to service.

(k) Related Information

(1) Refer to Mandatory Continuing Airworthiness Information (MCAI) European Aviation Safety Agency Airworthiness Directive 2013-0150, dated July 16, 2013, for related information. This MCAI may be found in the AD docket on the Internet at http://www.regulations.gov by searching for and locating it in Docket No. FAA-2014-0137.

(2) For service information identified in this AD, contact Airbus SAS, Airworthiness Office—EAW, 1 Rond Point Maurice Bellonte, 31707 Blagnac Cedex, France; telephone +33 5 61 93 36 96; fax +33 5 61 93 44 51; email account.airworth-eas@airbus.com; Internet http://www.airbus.com. You may view this service information at the FAA, Transport Airplane Directorate, 1601 Lind Avenue SW., Renton, WA. For information on the availability of this material at the FAA, call 425-227-1221.

Issued in Renton, Washington, on February 26, 2014.
Jeffrey E. Duven,
Manager, Transport Airplane Directorate, Aircraft Certification Service.

[FR Doc. 2014-04955 Filed 3-6-14; 8:45 am]

BILLING CODE 4910-13-P